DEPARTMENT OF COMMERCE

National Oceanic and Atmospheric Administration RIN: 0648-XD31

North Pacific Fishery Management Council; Public Meeting

AGENCY: National Marine Fisheries Service (NMFS), National Oceanic and Atmospheric Administration (NOAA), Commerce.

ACTION: Notice of a public meeting of the North Pacific Fishery Management Council's (Council) Halibut Charter Stakeholder Committee.

SUMMARY: The North Pacific Fishery Management Council Charter Halibut Stakeholder Committee will meet in Anchorage, AK.

DATES: The meetings will be held October 31 through November 2, 2007, 8:30 a.m. to 5 p.m.

ADDRESSES: The meetings will be held at the North Pacific Research Board, 1007 West 3rd Avenue, Suite 100, Anchorage, AK 99501.

Council address: North Pacific Fishery Management Council, 605 W. 4th Ave., Suite 306, Anchorage, AK 99501-2252.

FOR FURTHER INFORMATION CONTACT: Jane DiCosimo, Council staff, telephone: (907) 271-2809.

SUPPLEMENTARY INFORMATION: The Committee will review background documents and recommendations on permanent solution alternatives for analysis, as well as review actions taken by the North Pacific Fishery Management Council at its meeting on October 5, 2007.

Special Accommodations

These meetings are physically accessible to people with disabilities. Requests for sign language interpretation or other auxiliary aids should be directed to Gail Bendixen at (907) 271-2809 at least 7 working days prior to the meeting date.

Dated: October 9, 2007.
Tracey L. Thompson,
Acting Director, Office of Sustainable Fisheries, National Marine Fisheries Service.

[FR Doc. E7-20170 Filed 10-12-07; 8:45 am]

BILLING CODE 3510-22-S